DEPARTMENT OF TRANSPORTATION

Federal Aviation Administration

14 CFR Part 120

[Docket No. FAA-2020-1058]

RIN 2120-AK09

Enforcement Policy Regarding “Drug and Alcohol Testing of Certificated Repair Station Employees Located Outside of the United States; Correction”

AGENCY: Federal Aviation Administration (FAA), U.S. Department of Transportation (DOT).

ACTION: Notice of enforcement discretion.

SUMMARY: This notice announces that the FAA will not take enforcement action against regulated entities for failing to comply with the final rule titled “Drug and Alcohol Testing of Certificated Repair Station Employees Located Outside of the United States; Correction” until March 20, 2025.

DATES: As of March 11, 2025, the enforcement for the rule published December 18, 2024, at 89 FR 103416, and corrected December 27, 2024, at 89 FR 105447, is delayed to March 20, 2025.

ADDRESSES: Electronic Access and Filing: This document, the notice of proposed rulemaking (NPRM), all comments received, the final rule, the other rulemaking-specific documents in the docket, and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.Govinfo.gov.

FOR FURTHER INFORMATION CONTACT: Nancy Rodriguez Brown, Office of Aerospace Medicine, Drug Abatement Division, Federal Aviation Administration, 800 Independence Avenue SW, Washington, DC 20591; telephone (202) 267-8442; email: drugabatement@faa.gov.

SUPPLEMENTARY INFORMATION: On December 27, 2024, the FAA issued a final rule titled “Drug and Alcohol Testing of Certificated Repair Station Employees Located Outside of the United States; Correction” that was published in the Federal Register at 89 FR 105447. This final rule became effective on January 17, 2025. The final rule corrected the membership names of two commenters who provided comments to the FAA's final rule titled “Drug and Alcohol Testing of Certificated Repair Station Employees Located Outside of the United States” that was published on December 18, 2024, in the Federal Register at 89 FR 103416.

On January 20, 2025, the President issued a memorandum titled “Regulatory Freeze Pending Review,” 90 FR 8249 (Jan. 28, 2025), to direct executive departments and agencies to consider postposing for 60 days the effective date for any rules that had been published in the Federal Register but had not taken effect for the purpose of reviewing any questions of fact, law, and policy that the rules may raise. While not explicitly subject to the President's memorandum, the FAA is providing notice that it will exercise its enforcement discretion and not enforce the provisions of the FAA's final rule titled “Drug and Alcohol Testing of Certificated Repair Station Employees Located Outside of the United States; Correction” until March 20, 2025, to allow the officials appointed or designated by the President to review the final rule to ensure that it is consistent with the law and Administration policies.

Issued in Washington, DC.
Taneesha Dobyne Marshall,
Assistant Chief Counsel for Aviation Litigation, Federal Aviation Administration.

[FR Doc. 2025-03853 Filed 3-10-25; 8:45 am]

BILLING CODE 4910-59-P